COMMITTEE FOR THE IMPLEMENTATION OF TEXTILE AGREEMENTS

New Export Visa Stamp for Certain Textile Products Produced or Manufactured in Hungary

May 8, 2001.

AGENCY: Committee for the Implementation of Textile Agreements (CITA).

ACTION: Issuing a directive to the Commissioner of Customs providing for the use of a new export visa stamp.

EFFECTIVE DATE: June 1, 2001.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Beginning on June 1, 2001, the Government of the Republic of Hungary will start issuing a new export visa stamp for shipments of textile products, produced or manufactured in Hungary and exported from Hungary on or after June 1, 2001 to reflect the name change of “Ministry of Economic Affairs” to “LICENSING AND ADMINISTRATION OFFICE OF THE MINISTRY OF ECONOMIC AFFAIRS.” There will be a one-month grace period from June 1, 2001 through June 30, 2001, during which products exported from Hungary may be accompanied by either the old or new export visa stamp. Products exported from Hungary on or after July 1, 2001 must be accompanied by the new export visa stamp.

See 49 FR 8659, published on March 8, 1984.

J. Hayden Boyd,
Acting Chairman, Committee for the Implementation of Textile Agreements.

Committee for the Implementation of Textile Agreements

May 8, 2001.

Commissioner of Customs,

Department of the Treasury, Washington, DC 20229.

Dear Commissioner: This directive amends, but does not cancel, the directive issued to you on March 5, 1984, as amended, by the Chairman, Committee for the Implementation of Textile Agreements. That directive directed you to prohibit entry of certain textile products, produced or manufactured in Hungary for which the Government of the Republic of Hungary has not issued an appropriate export visa.

Beginning on June 1, 2001, you are directed to amend further the directive dated March 5, 1984 to provide for the use of a new export visa stamp issued by the Government of the Republic of Hungary to accompany shipments of textile products, produced or manufactured in Hungary and exported from Hungary on or after June 1, 2001. This new visa stamp reflects the name change of “Ministry of Economic Affairs” to “LICENSING AND ADMINISTRATION OFFICE OF THE MINISTRY OF ECONOMIC AFFAIRS.”

Textile products exported from Hungary during the period June 1, 2001 through June 30, 2001 may be accompanied by either the old or new export visa stamp. Products exported from Hungary on or after July 1, 2001 must be accompanied by the new export visa stamp.

A facsimile of the new visa stamp is enclosed with this letter.

Shipments entered or withdrawn from warehouse according to this directive which are not accompanied by an appropriate export visa shall be denied entry and a new visa must be obtained.

The Committee for the Implementation of Textile Agreements has determined that this action falls within the foreign affairs exception to the rulemaking provisions of 5 U.S.C. 553(a)(1).

Sincerely,

J. Hayden Boyd,

Acting Chairman, Committee for the Implementation of Textile Agreements.

BILLING CODE 3510-DR-F

Export Visa Stamp for the Republic of Hungary

[FR Doc. 01-12054 Filed 5-11-01; 8:45 am]

BILLING CODE 3510-DR-C